DEPARTMENT OF COMMERCE

National Oceanic and Atmospheric Administration

[I.D.020601A]

Marine Mammals; File No. 782-1446-03

AGENCY: National Marine Fisheries Service (NMFS), National Oceanic and Atmospheric Administration (NOAA), Commerce.

ACTION: Issuance of permit amendment.

SUMMARY: Notice is hereby given that the Alaska Fisheries Science Center, National Marine Mammal Laboratory, 7600 Sand Point Way, NE, Seattle, WA 98115 has been issued an amendment to scientific research Permit No. 782-1446.

ADDRESSES:

The amendment and related documents are available for review upon written request or by appointment in the following office(s):

Permits and Documentation Division, Office of Protected Resources, NMFS, 1315 East-West Highway, Room 13705, Silver Spring, MD 20910 (301/713-2289);

Northwest Region, National Marine Fisheries Service, NOAA, 7600 Sand Point Way, NE, BIN C15700, Seattle, WA 98115-0070 (206/526-6150); and

Regional Administrator, Southwest Region, NMFS, 501 West Ocean Blvd., Suite 4200, Long Beach, CA 90802-4213 (562/980-4001).

FOR FURTHER INFORMATION CONTACT: Ruth Johnson or Tammy Adams, 301/713-2289.

SUPPLEMENTARY INFORMATION: On December 27,2000 notice was published in the Federal Register (65 FR 81844) that an amendment of Permit No. 782-1446, issued May 8, 1998 (63 FR 27265), had been requested by the above-named organization. The requested amendment has been granted under the authority of the Marine Mammal Protection Act of 1972, as amended (16 U.S.C. 1361 et seq.) and the Regulations Governing the Taking and Importing of Marine Mammals (50 CFR part 216).

Permit No. 782-1446 authorizes the permit holder to annually conduct aerial, ground and vessel surveys and capture and tagging studies for stock assessment of harbor seals (Phoca vitulina), California sea lions (Zalophus californianus), Steller sea lions (Eumetopias jubatus), and northern elephant seals (Mirounga angustirostris).

The amendment now authorizes the capture, sampling and local or gas anesthesia for California sea lions of both sexes and ages 1 month through 5 years at hauling and breeding sites and incidental harassment of northern elephant.

Dated: February 13, 2001.
Eugene Nitta,
Acting Chief, Permits and Documentation Division, Office of Protected Resources, National Marine Fisheries Service.

[FR Doc. 01-4170 Filed 2-20-01; 8:45 am]

BILLING CODE 3510-22-S